DEPARTMENT OF DEFENSE

Department of the Army; Corps of Engineers

Notice of Intent To Prepare a Draft Environmental Impact Statement for the Town of Nags Head, Beach Nourishment Project in Dare County, NC

AGENCY: Department of the Army, U.S. Army Corps of Engineers, DoD.

ACTION: Notice of intent.

SUMMARY: The U.S. Army Corps of Engineers (COE), Wilmington District, Regulatory Division, has received a request for Department of the Army authorization, pursuant to Section 404 of the Clean Water Act and Section 10 of the Rivers and Harbors Act of 1899, from the Town of Nags Head to dredge up to 4.6 million cubic yards of beach-quality sediment from an offshore borrow source, and deposit the material along approximately 10 miles of ocean shoreline in the Town of Nags Head.

The applicant proposes to utilize a self-contained hopper dredge during a proposed construction window from April through September to undertake the dredging operations and discharge the sand on the beach via submerged pipeline. In addition, the applicant's proposed offshore borrow areas include sites identified in the U.S. Army Corps of Engineers, Wilmington District's EIS, entitled Final Feasibility Report and Environmental Impact Statement on Hurricane Protection and Beach Erosion Control, dated September 2000.

DATES: A public scoping meeting for the Draft Environmental Impact Statement (DEIS) will be held at the Nags Head Fire Station #16, at 5314 S. Croatan Highway, Nags Head, NC 27959 on April 28, 2009 at 3:30 p.m.

ADDRESSES: Copies of comments and questions regarding scoping of the Draft EIS may be addressed to: U.S. Army Corps of Engineers, Wilmington District, Regulatory Division—Washington Regulatory Field Office, 107 Union Drive, Suite 205, Washington, NC 27889, Attn: File Number SAW 2006-40282.

FOR FURTHER INFORMATION CONTACT: Questions about the proposed action and DEIS can be directed to Mr. Raleigh Bland, Regulatory Division, telephone: (252) 975-1616, Extension 23.

SUPPLEMENTARY INFORMATION: The project site is located off NC Highway 12, adjacent to the Atlantic Ocean, in the Town of Nags Head, Dare County, North Carolina. The proposed project totals approximately 10 miles of ocean shoreline beginning approximately 1 mile from the town's northern limit and extending south to the town line adjacent to the Cape Hatteras National Seashore. The proposed borrow area is located in the Atlantic Ocean approximately 2-3 miles offshore of the project site. The Town of Nags Head encompasses approximately 11 miles of ocean shoreline on a barrier island located at the northern end of North Carolina's Outer Banks. The width of the berm of the island's dune system varies considerably with location along the town's beach and with the season. Along most of the project area, the winter berm is non-existent due to continuing erosion processes. Dune habitat is currently decreasing due to excessive erosion of the base or toe of the dunes by waves that travel unimpeded over eroded wet beach to directly impact dunes.

The Town of Nags Head has provided the following information about the purpose of the proposed project:

The purpose of the proposed project is to nourish the island's ocean shoreline to restore eroded areas to a condition that would be able to sustain chronic erosion and the short-term impact of storms for at least 4-5 years, protect upland property, infrastructure, and tax base, and widen the recreational beach by 50-125 feet waterward of the ordinary high water mark.

The proposed borrow area includes portions of offshore areas identified by the Corps of Engineers in the 2000 Federal Dare County Project. Several sub areas have been sampled and tested for sediment compatibility. Water depths in the borrow area are approximately 40-55 feet. The anticipated optimal equipment for excavations will include ocean-certified, self-contained hopper dredges. Such equipment typically excavates shallow trenches (approximately 2-3 foot sections) in each pass (leaving narrow undisturbed areas at the margin of each cut), then travels to a buoyed pipeline anchored close to shore. Discharge to the beach is via submerged pipeline across the surf zone, then by way of shore-based pipe positioned along the dry beach. Only a small area of the Corps borrow area will be required to provide up to 4.6 million cubic yards of beach quality material. The applicant is coordinating the specific area for use in the proposed project with the Corps with the following understanding: (1) The final borrow area required for the emergency beach nourishment project can be limited to the equivalent of a 0.9 square-mile (approximately 575 acres) area, (2) the borrow area used will be contiguous rather than a series of small impact areas, (3) once used, the borrow area will no longer be available for use, consistent with the Dare County Project, and (4) the borrow area will be delineated so as to avoid ongoing biological monitoring stations established by the Corps in connection with the Dare County Project. The project will be built in approximate 1-2 mile sections, optimizing the disposition of pipeline. Sections will be pumped into place with the aid of temporary dikes pushed up by bulldozers in the surf zone. Daily operations will impact approximately 500-1,000 linear feet of shoreline as work progresses in either direction from the submerged pipeline. Upon completion of a section, the submerged pipe and beach-building equipment will be shifted to the next section. As construction progresses, sections will be graded to final contours, dressed to eliminate low areas, and opened for use by the public. Support equipment will be shifted out of completed sections as soon as practicable, so that construction activities in a particular reach will not disrupt normal beach use for only a month or so at any locality. The finished sections will be allowed to adjust to natural processes for several months. The final process will include the placement of dune fencing and/or dune plantings as needed or required.

Proposed Impacts to Wetlands and Surface Waters: Surface waters and jurisdictional areas have been identified for the proposed project site. Field reviews of the project area have revealed that there are no vegetated freshwater or coastal wetlands located in the project area. The proposed project will impact approximately 10 miles of ocean beach shoreline and 575 acres of ocean bottom.

Scope of Investigations: Based upon the proposed impacts to waters of the United States, the Town of Nags Head, and their consultant, Coastal Science & Engineering, has indicated to the U.S. Army Corps of Engineers that they are willing to pursue an Environmental Impact Statement (EIS) for the proposed Project. The scope of the EIS investigation will include the following: Alternatives analyses, affected environment, environmental consequences, and secondary and cumulative environmental impacts.

Alternatives Analyses: Council on Environmental Quality (CEQ) regulations (40 CFR 1502.14(a)) require an EIS to “rigorously explore and objectively evaluate all reasonable alternatives” for a proposed action. The regulations (40 CFR 1502.14(b)) further require that substantial treatment be made of each alternative considered in detail, including the proposed action. The Town of Nags Head has identified three alternatives for the proposed project, including (1) no action; (2) abandon property, retreat, and relocate; and (3) nourish the beach. The factors used to compare the alternatives will be the same for each of the alternatives.

Affected Environment: CEQ regulations (40 CFR 1502.15) require the EIS to describe the environment of the areas to be affected or created by the alternatives under consideration. The data and analysis shall be commensurate with the importance of the impact. Based upon preliminary evaluation of the proposed Project, it appears the primary areas of environmental concern will focus on the use of a hopper dredge during the warm weather season and the potential effect on marine and threatened and endangered resources.

In preparation for the EIS, the following studies have been completed or are ongoing for the proposed Project:

• Meetings with Federal and State regulatory and resource agencies (2005 to present).

• DA application and Draft Environmental Impact Statement (2006).

• Data compilations and surveys including, but not limited to littoral processes, cultural resources, biological surveys, sediment characteristics, economic, draft Essential Fish Habitat, hopper dredge protocol, and a Biological Assessment (2006 to present).

• Public Notice (2006).

• Federal Project Comparison (2007).

• SEPA (2007).

• Biological Opinion/USFWS (2008).

• EFH Assessment/NMFS (2008).

• State SEPA Record of Decision (2009).

Environmental Consequences: CEQ regulations (40 CFR 1502.16) state the EIS will include the environmental impacts of the alternatives including the proposed action, any adverse environmental effects which cannot be avoided should the proposal be implemented, the relationship between short-term uses of man's environment and the maintenance and enhancement of long-term productivity, and any irreversible or irretrievable commitments of resources which would be involved in the proposal should it be implemented. The EIS will identify and disclose the direct impacts of the proposed project and study a reasonable number of alternatives on the following: topography, geology, soils, climate, biotic communities, wetlands, fish and wildlife resources, endangered and threatened species, hydrology, water resources and water quality, floodplains, hazardous materials, air quality, noise, aesthetics, recreational resources, historical and cultural resources, socio-economic, land use, public health and safety, energy requirements and conservation, natural or non-renewable resources, drinking waters, and environmental justice.

Secondary and Cumulative Environmental Impacts: Cumulative impacts result from the incremental impact of the proposed action when added to past, present, and reasonably foreseeable future actions, regardless of what agency or person undertakes the action. Geographic Information System (GIS) data and mapping will be used to evaluate and quantify secondary and cumulative impacts of the proposed Project with particular emphasis given to waters and marine resources.

Mitigation: CEQ regulations (40 CFR 1502.14, 1502.16, and 1508.20) require the EIS to include appropriate mitigation measures, if applicable. The USACE has adopted, through the CEQ, a mitigation policy which embraces the concepts of “no net loss of wetlands” and project sequencing. The purpose of this policy is to restore and maintain the chemical, biological, and physical integrity of “Waters of the United States,” specifically wetlands. Mitigation of wetland impacts has been defined by the CEQ to include: avoidance of impacts (to wetlands), minimizing impacts, rectifying impacts, reducing impacts over time, and compensating for impacts (40 CFR 1508.20). Each of these aspects (avoidance, minimization, and compensatory mitigation) must be considered in sequential order. As part of the EIS, if applicable, the applicant will develop a compensatory mitigation plan detailing the methodology and approach to compensate for unavoidable impacts to waters of the U.S.

NEPA/SEPA Preparation and Permitting: Because the proposed Nags Head project requires approvals from Federal and State agencies under both the National Environmental Policy Act (NEPA) and the State Environmental Policy Act (SEPA), a joint Federal and State Environmental Impact Statement (EIS) will be prepared. The U.S. Army Corps of Engineers will serve as the lead agency for the process. The EIS will be the NEPA document for the Corps of Engineers (404 permit) and the SEPA document for the State of North Carolina (401 permit).

Based on the size, complexity, and potential impacts of the proposed project, the Applicant has been advised by the U.S. Army Corps of Engineers to identify and disclose the environmental impacts of the proposed project in an Environmental Impact Statement (EIS). Within the EIS, the Applicant will conduct a thorough environmental review, including an evaluation of a reasonable number of alternatives. After distribution and review of the Draft EIS and Final EIS, the Applicant understands that the U.S. Army Corps of Engineers will issue a Record of Decision (ROD) for the project. The ROD will document the completion of the EIS process and will serve as a basis for permitting decisions by Federal and State agencies.

Jefferson M. Ryscavage,
Colonel, U.S. Army, District Commander.

[FR Doc. E9-8084 Filed 4-8-09; 8:45 am]

BILLING CODE 3720-58-P